DEPARTMENT OF THE INTERIOR

Bureau of Indian Affairs

Indian Gaming

AGENCY: Bureau of Indian Affairs, Interior.

ACTION: Notice of Approved Amendment to Tribal-State Compact.

SUMMARY: This notice publishes an approved Amendment to the Class III Tribal-State Gaming Compact between the Puyallup Tribe of Indians and the State of Washington. Under the Indian Gaming Regulatory Act of 1988, the Secretary of the Interior is required to publish notice in the Federal Register approved Tribal-State compacts for the purpose of engaging in Class III gaming activities on Indian lands.

EFFECTIVE DATE: October 14, 2004.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands.

The Memorandum of Incorporation of Most Favored Nation Amendments to the Tribal-State Compact between the Puyallup Tribe of Indians and the State of Washington will permit the Tribe to increase the number of Class III gaming machines it operates in one of its gaming facilities from 1,500 to 2,000. Through delegated authority, the Deputy Assistant Secretary of Indian Affairs (Management) is publishing notice that the Memorandum of Incorporation of Most Favored Nation Amendments is now in effect.

Dated: August 20, 2004.
Woodrow W. Hopper,
Deputy Assistant Secretary—Indian Affairs (Management).

[FR Doc. 04-23092 Filed 10-13-04; 8:45 am]

BILLING CODE 4310-4N-P